MILLENNIUM CHALLENGE CORPORATION

[MCC FR 06-09]

Notice of the June 16, 2006 Millennium Challenge Corporation Board of Directors Meeting; Sunshine Act Meeting

AGENCY: Millennium Challenge Corporation.

Time and Date: 10 a.m. to 12 p.m., Friday, June 16, 2006.

Place: Department of State, 2201 C Street, NW., Washington, DC 20520.

FOR FURTHER INFORMATION CONTACT: Information on the meeting may be obtained from Joyce B. Lanham via e-mail at Board@mcc.gov or by telephone at (202) 521-3600.

Status: Meeting will be closed to the public.

Matters to be Considered: The Board of Directors (the “Board”) of the Millennium Challenge Corporation (“MCC”) will hold a meeting to discuss the proposed Compact with Ghana; the approval of several proposed Threshold Country Programs; MCC suspension and termination issues; an operations update; and certain administrative matters. The agenda items are expected to involve the consideration of classified information and the meeting will be closed to the public.

Dated: June 6, 2006.
Jon A. Dyck,
Vice President and General Counsel.

[FR Doc. 06-5277 Filed 6-6-06; 4:54 pm]

BILLING CODE 9210-01-P